DEPARTMENT OF ENERGY

[Docket No. 15-90-LNG]

Cameron LNG, LLC; Application for Commencement Extension, Term Extension, and Partial Vacatur

AGENCY: Office of Fossil Energy and Carbon Management, Department of Energy.

ACTION: Notice of application.

SUMMARY: The Office of Fossil Energy and Carbon Management (FECM) (formerly the Office of Fossil Energy (FE)) of the Department of Energy (DOE) gives notice (Notice) of receipt of an Application (Application), filed on October 23, 2025, by Cameron LNG, LLC (Cameron LNG). Cameron LNG asks DOE to amend its existing authorization to export U.S.-sourced natural gas in the form of liquefied natural gas (LNG) from the Cameron LNG Terminal in Cameron and Calcasieu Parishes, Louisiana, to non-free trade agreement countries set forth in DOE/FE Order No. 3846 (as amended)—specifically, (1) to extend the export commencement deadline in said authorization; (2) to extend the term of said authorization to the later of twenty years after the date of first commercial export or December 31, 2050, with an additional three-year post-term make-up period; and (3) to vacate said authorization, in part, to reduce the authorized export volume to be in line with design adjustments and efficiency improvements to Cameron LNG's project facilities. Cameron LNG filed the Application under the Natural Gas Act (NGA).

DATES: Protests, motions to intervene, or notices of intervention, as applicable, and written comments are to be filed electronically as detailed in the Public Comment Procedures section no later than 4:30 p.m., Eastern time, December 18, 2025.

ADDRESSES:

Electronic Filing by email (Strongly encouraged): fergas@hq.doe.gov.

Postal Mail, Hand Delivery, or Private Delivery Services (e.g., FedEx, UPS, etc.): U.S. Department of Energy (FE-34), Office of Regulation, Analysis, and Engagement, Office of Fossil Energy and Carbon Management, Forrestal Building, Room 3E-056, 1000 Independence Avenue SW, Washington, DC 20585.

Due to potential delays in DOE's receipt and processing of mail sent through the U.S. Postal Service, we encourage respondents to submit filings electronically to ensure timely receipt.

FOR FURTHER INFORMATION CONTACT:

Jennifer Wade or Peri Ulrey, U.S. Department of Energy (FE-34), Office of Regulation, Analysis, and Engagement, Office of Resource Sustainability, Office of Fossil Energy and Carbon Management, Forrestal Building, Room 3E-042, 1000 Independence Avenue SW, Washington, DC 20585, (202) 586-4749 or (202) 586-7893, jennifer.wade@hq.doe.gov or peri.ulrey@hq.doe.gov.

Irene V. Norville, U.S. Department of Energy (GC-76), Office of the Assistant General Counsel for Energy Delivery and Resilience, Forrestal Building, Room 6D-033, 1000 Independence Avenue SW, Washington, DC 20585, (240) 702-5679, irene.norville@hq.doe.gov.

SUPPLEMENTARY INFORMATION: On July 15, 2016, in Order No. 3846 (as amended),¹ DOE authorized Cameron LNG to export LNG in a volume equivalent to 515 billion cubic feet per year (Bcf/yr) of natural gas by vessel from Trains 4 and 5 of the Cameron LNG Terminal (the “Expansion Project”) to any country with which the United States has not entered into a free trade agreement (FTA) requiring national treatment for trade in natural gas, and with which trade is not prohibited by U.S. law or policy (non-FTA countries), pursuant to NGA section 3(a).² Cameron LNG is authorized to export this LNG for a term extending through December 31, 2050.³

¹ Cameron LNG, LLC, DOE/FE Order No. 3846, Docket No. 15-90-LNG, Opinion and Order Granting Long-Term, Multi-Contract Authorization to Export Liquefied Natural Gas by Vessel from Trains 4 and 5 of the Cameron LNG Terminal in Cameron and Calcasieu Parishes, Louisiana, to Non-Free Trade Agreement Nations (July 15, 2016), amended by DOE/FE Order No. 3846-A (Nov. 2, 2020) (extending commencement deadline), further amended by DOE/FE Order No. 3846-B (Dec. 30, 2020) (extending export term).

² 15 U.S.C. 717b(a).

³ Cameron LNG, LLC, DOE/FE Order No. 3846, as amended by DOE/FE Order No. 3846-B (Ordering Para. B).

As relevant here, Order No. 3846, as amended, requires Cameron LNG to “commence commercial export operations using the planned liquefaction facilities no later than May 5, 2026.” ⁴ In its Application, Cameron LNG “requests that the deadline for the commencement of service for Non-FTA exports pursuant to Order No 3864-A be changed to March 16, 2033[.]” ⁵ Cameron LNG adds that its Application is “consistent with” a request it filed with the Federal Energy Regulatory Commission (FERC) on October 21, 2025, to extend the construction deadline under its current FERC authorization.⁶

⁴ Cameron LNG, LLC, DOE/FE Order No. 3846, as amended by DOE/FE Order No. 3846-A (Ordering Para. D).

⁵ Cameron LNG, LLC, Application for Commencement Extension, Term Extension, and Partial Vacatur, Docket Nos. 15-36-LNG & 15-90-LNG, at 6 (Oct. 23, 2025) [hereinafter App.]. The Application also includes a request pertaining to Cameron LNG's existing FTA order in Docket No. 15-36-LNG. DOE will address the FTA portion of the Application separately pursuant to NGA section 3(c), 15 U.S.C. 717b(c).

⁶ See App. at 6.

In the Application, Cameron LNG asserts that DOE has good cause to grant its commencement deadline extension request. Cameron LNG states that its requested extension “arises primarily out of its customers' request for redesign of the Expansion Project[,]” including “enhanc[ing] the efficiency and reliability of the remaining train.” ⁷ Cameron LNG further states that it “has commenced construction activities for the Expansion Project[,]” so far having “spent approximately $100 million in costs related to the project[.]” ⁸ In addition, Cameron LNG states it has taken “important commercial steps in furtherance of the project” and “obtained all necessary Federal, state, and local permits for the construction of the amended Expansion Project.” ⁹ In the process, Cameron LNG has overcome a series of “unforeseen delays that transpired due to circumstances surrounding its joint-venture owners” and that it could not control,¹⁰ such as the delay involving “the regulatory process for seeking and obtaining FERC approval for the redesign of the Expansion Project” that Cameron LNG says its customers requested and that it sought via amendment in January 2022.¹¹ Cameron LNG maintains that its “requested extension will not disturb DOE/FECM's underlying public interest determinations regarding the Non-FTA Authorization[,]” and that “[n]o facts or requirements associated with the Non-FTA Authorization would be affected by the requested extension beyond the additional time period to commence operations.” ¹²

⁷ Id. at 8.

⁸ Id.

⁹ Id. at 9.

¹⁰ Id. at 9-10.

¹¹ Id. at 10.

¹² App. at 10.

Cameron LNG also asks DOE to extend the term of its authorization “to the later of (a) December 31, 2050, or (b) 20 years after the date of first commercial export,” along with “a three-year, post-term make-up period.” ¹³ According to Cameron, “it is likely that a term ending on December 31, 2050, would be less than 20 years, which is the industry standard for the long-term sale and purchase agreements that support the financing of LNG export terminals[,]” such as its Expansion Project.¹⁴ Cameron maintains that a term extension for a minimum of 20 years with a three-year make-up period is “not inconsistent with the public interest.” ¹⁵

¹³ Id. at 13.

¹⁴ Id. at 12.

¹⁵ Id. at 13.

Finally, Cameron LNG asks DOE to reduce its authorized export volume from 515 Bcf/yr to 350 Bcf/yr,¹⁶ due to “the efficiency design modifications to Train 4 and the elimination of the fifth train and fifth storage tank.” ¹⁷ Cameron LNG states that FERC has certified this amended capacity, and that the partial vacatur it requests would authorize LNG exports “up to a volume equivalent to the proposed production capacity of the amended Expansion Project facilities” that FERC has already approved.¹⁸

¹⁶ See id. at 14.

¹⁷ Id. at 10.

¹⁸ App. at 14.

Additional details can be found in the Application, posted on the DOE website at: https://www.energy.gov/sites/default/files/2025-10/Cameron%20LNG%20Request%20for%20Extension%20and%20Partial%20Vacatur%20%2815-36-LNG%20%2015-90-LNG%29.pdf.

DOE Evaluation

In reviewing the Application, DOE will consider any issues required by law or policy under NGA section 3(a), DOE's regulations, and any other documents deemed appropriate.

Parties that may oppose the Application should address these issues and documents in their comments and/or protests, as well as other issues deemed relevant to the Application.

The National Environmental Policy Act (NEPA), 42 U.S.C. 4321 et seq., requires DOE to give appropriate consideration to the environmental effects of its proposed decisions. No final decision will be issued in this proceeding until DOE has met its NEPA responsibilities.

Public Comment Procedures

In response to this Notice, any person may file a protest, comments, or a motion to intervene or notice of intervention, as applicable, addressing the Application. Interested parties will be provided 30 days from the date of publication of this Notice in the Federal Register in which to submit comments, protests, motions to intervene, or notices of intervention. The public previously was given an opportunity to intervene in, protest, and comment on Cameron LNG's long-term non-FTA application in this docket. Therefore, DOE will not consider comments or protests that do not bear directly on this Application.

Any person wishing to become a party to this proceeding evaluating Cameron LNG's Application must file a motion to intervene or notice of intervention.¹⁹ The filing of comments or a protest with respect to the Application will not serve to make the commenter or protestant a party to this proceeding, although protests and comments received from persons who are not parties will be considered in determining the appropriate action to be taken on the Application. All protests, comments, motions to intervene, or notices of intervention must meet the requirements specified by DOE's regulations in 10 CFR part 590, including the service requirements.

¹⁹ Status as an intervenor in prior proceeding(s) in this docket does not continue to this proceeding evaluating Cameron LNG's Application, and therefore any person interested in intervening to address the Application must file a new motion to intervene (or notice of intervention, as applicable). 10 CFR 590.303.

Filings may be submitted using one of the following methods:

(1) Submitting the filing electronically at fergas@hq.doe.gov;

(2) Mailing the filing to the Office of Regulation, Analysis, and Engagement at the address listed in the ADDRESSES section; or

(3) Hand delivering the filing to the Office of Regulation, Analysis, and Engagement at the address listed in the ADDRESSES section.

For administrative efficiency, DOE prefers filings to be filed electronically. All filings must include a reference to “Docket No. 15-90-LNG” or “Cameron LNG Application for Commencement Extension, Term Extension, and Partial Vacatur” in the title line. Filings must be submitted in English to be considered.²⁰

²⁰ Executive Order 14224 of March 1, 2025, Designating English as the Official Language of the United States, 90 FR 11363 (Mar. 6, 2025).

For electronic submissions: Please include all related documents and attachments (e.g., exhibits) in the original email correspondence. Please do not include any active hyperlinks or password protection in any of the documents or attachments related to the filing. All electronic filings submitted to DOE must follow these guidelines to ensure that all documents are filed in a timely manner.

The Application, and any filed protests, motions to intervene, notices of intervention, and comments will be available electronically on the DOE website at www.energy.gov/fecm/regulation.

A decisional record on the Application will be developed through responses to this Notice by parties, including the parties' written comments and replies thereto. Additional procedures will be used as necessary to achieve a complete understanding of the facts and issues. If an additional procedure is scheduled, notice will be provided to all parties. If no party requests additional procedures, a final Order may be issued based on the official record, including the Application and responses filed by parties pursuant to this Notice, in accordance with 10 CFR 590.316.

Signed in Washington, DC, on November 14, 2025.
Amy Sweeney,
Director, Office of Regulation, Analysis, and Engagement, Office of Resource Sustainability.

[FR Doc. 2025-20220 Filed 11-17-25; 8:45 am]

BILLING CODE 6450-01-P